DEPARTMENT OF COMMERCE

National Oceanic and Atmospheric Administration

50 CFR Part 622

[ I.D. 052301E]

Gulf of Mexico Fishery Management Council; Public Hearings

AGENCY: National Marine Fisheries Service (NMFS), National Oceanic and Atmospheric Administration (NOAA), Commerce.

ACTION: Notice of public hearings; request for comments.

SUMMARY: The Gulf of Mexico Fishery Management Council (Council) will convene public hearings to receive comments on its proposed Amendment 18 to the Fishery Management Plan for the Reef Fish Resources of the Gulf of Mexico that proposes to establish a 10-year red grouper stock rebuilding program and address other reef fish fishery gear and enforcement issues.

DATES: The public hearings will be held in June. See SUPPLEMENTARY INFORMATION for specific dates and times of the public hearings. Written comments will be accepted until June 28, 2001.

ADDRESSES: Written comments should be sent to and copies of draft Amendment 18 and its draft supplemental environmental impact statement (DSEIS) are available from the Gulf of Mexico Fishery Management Council, 3018 U.S. Highway 301, North, Suite 1000, Tampa, FL 33619; telephone 813-228-2815. Public hearings will be held in Texas, Louisiana, Mississippi, Alabama, and Florida. See SUPPLEMENTARY INFORMATION for specific hearing locations.

FOR FURTHER INFORMATION CONTACT: Mr. Steven Atran, Population Dynamics Statistician, Gulf of Mexico Fishery Management Council; 813-228-2815.

SUPPLEMENTARY INFORMATION: In October 2000, NMFS informed the Council that it had determined that the Gulf of Mexico red grouper stock is overfished and undergoing overfishing. Under the Magnuson-Steven Fishery Conservation and Management Act (Magnuson-Stevens Act), the Council is required to propose management measures to initiate rebuilding the stock within one year of NMFS’ determination that the stock is overfished.

The Council has developed Amendment 18, in part, to address its responsibility under the Magnuson-Stevens Act, to propose stock rebuilding measures for red grouper. The Council will convene public hearings to review draft Amendment 18 and its accompanying DSEIS. Amendment 18 proposes to establish a 10-year red grouper rebuilding program and address other gear and enforcement issues. The issues and proposed alternative measures contained in draft Amendment 18 are summarized below; the section references refer to sections of the draft Amendment 18 document.

Draft Amendment 18 Issues and Alternative Measures

Longline and Buoy Gear Endorsement (Section 6.1.1)

6.1.1.1 Establish a longline/buoy gear endorsement - No preferred alternative selected.

6.1.1.2 Transferability of endorsement - Fully transferable.

6.1.1.3 Appeals board - Appeals to be handled by NMFS.

Longline and Buoy Gear Boundary Line (Section 6.1.2) - No preferred alternative selected.

Longline and Buoy Gear Phase-Out (Section 6.1.3) - No preferred alternative selected.

Use of Powerheads When Spearfishing (Section 6.2) - Require a permit for the use of powerheads when reef fish fishing (both commercially and recreationally), and eliminate the regulatory exemption that allows the use of powerheads in the stressed area for harvest of sand perch, dwarf sand perch, and hogfish.

Use of Reef Fish for Bait (Section 7.0) - Prohibit the use of all species in the reef fish management unit or parts thereof, except sand perch and dwarf sand perch, with any gear for bait. No preferred alternative has been selected regarding whether to apply this provision to commercial fishing, recreational fishing, or both.

Vessel Monitoring System (Section 8.0) - Require fishing vessels engaged in the bottom (reef fish) longline fishery to be equipped with an electronic vessel monitoring system (VMS), with the cost of the vessel equipment, installation, maintenance, and month-to-month communications to be paid or arranged by the owners as appropriate. NMFS would maintain and publish in the Federal Register a list of type-approved units and communications protocols.

Dormant Reef Fish Permits (Section 9.0) - No preferred alternative selected.

Red Grouper Rebuilding Plan (Section 10.0)

10.1 Red Grouper Sustainable Fishing Parameters - Set red grouper maximum sustainable yield (MSY), fishing mortality rate at MSY (FMSY), and spawning stock biomass proxy at MSY (SSMSY) at the range of values estimated by the Reef Fish Stock Assessment Panel, MSY = 6.705 to 7.012 million pounds; FMSY = 0.223 to 0.270; SSMSY = 350.7 to 433.2 million grams female gonad weight.

10.2 Red Grouper Minimum Stock Size Threshold (MSST) - Red grouper minimum stock size threshold (MSST) shall be 80% of SSMSY (280.6 to 346.6 million grams female gonad weight).

10.3 Red Grouper Maximum Fishing Mortality Threshold (MFMT) - Red grouper maximum fishing mortality threshold (MFMT) shall be FMSY (0.223 to 0.270), or the F consistent with recovery to the MSY level in no more than 10 years.

10.4 Red Grouper Optimum Yield (OY) - Red grouper optimum yield (OY) shall be 90% of MSY (6.035 to 6.311 million pounds).

10.5 Red Grouper Rebuilding Strategy - Adopt a 10-year red grouper rebuilding plan based on a constant catch strategy. The annual ABC during the rebuilding period is initially set at 4.3-5.2 million pounds. (This is a reduction of 21-34 percent from the 1996-99 average landings of 6.6 million pounds.) This ABC range may be modified following a future stock assessment by a regulatory amendment or plan amendment.

10.6 Commercial Shallow-Water Grouper Closed Seasons, Reef Fish Recreational Harvest on a Commercial Vessel, and Reef Fish Fishing Year - In addition to consideration of commercial shallow-water grouper closed seasons, this section also contains an alternative to consider prohibiting the retention of both commercial and recreational harvest of reef fish species on the same trip, and an alternative to consider changing the start of the fishing year for stocks that have a fixed closed season. No preferred alternative selected.

10.7 Recreational Closed Seasons - No preferred alternative selected.

10.8 Commercial Grouper Trip Limits - No preferred alternative selected.

10.9 Recreational Grouper Bag Limits - No preferred alternative selected.

10.10 Closed Areas - No preferred alternative selected.

Tilefish and Deep-Water Grouper Quotas and Closed Seasons(Section 11.0) - Combine tilefish and deep-water grouper into a new deep-water reef fish aggregate; set the new deep-water reef fish quota at 1.47 million pounds (which is the average annual harvest of tilefish and deep-water grouper from 1996-99); and consider a closed season for deep-water grouper and tilefish.

Changes to the Reef Fish Management Unit (Section 12.0) - Add the following species to the FMP management unit as indicated: Add the marbled grouper (Epinephelus inermis)to the shallow-water grouper aggregate under the management unit; and add the sand tilefish (Malacanthus plumieri) to the management unit.

Modifications to the Reef Fish FMP’s Framework Procedure for Setting Total Allowable Catch (TAC) (Section 13.0) - The primary modification is to allow a species TAC and commercial-to-recreational allocation to be set for an individual species within an aggregate (such as the shallow-water grouper aggregate) that differs from the aggregate allocation, provided the aggregate allocation remains as specified. A second modification allows NMFS stock assessments to report the status of stocks in terms of biomass or biomass proxy instead of spawning potential ratio (SPR). This section also contains an alternative to consider specifying that, if a TAC is set for red grouper or gag, the allocations will be based on catch histories of those stocks for the years 1986 to 1999.

Time and Location for Public Hearings

Public hearings for Reef Fish Amendment 18 will be held at the following locations and dates from 7 p.m. - 10 p.m.

1. Thursday, June 14, 2001, Port Aransas Community Center, 408 North Allister, Port Aransas, TX.

2. Monday, June 18, 2001, Larose Regional Park, 307 East 5th Street, Larose, LA.

3. Tuesday, June 19, 2001, Imperial Palace Hotel, 850 Bayview, Biloxi, MS.

4. Wednesday, June 20, 2001, Hilton Beachfront Garden Inn, 23092 Perdido Beach Boulevard, Orange Beach, AL.

5. Thursday, June 21, 2001, National Marine Fisheries Service, 3500 Delwood Beach Road, Panama City, FL.

6. Monday, June 25, 2001, Holiday Inn Beachside, 3841 North Roosevelt Boulevard, Key West, FL.

7. Tuesday, June 26, 2001, Edison Comm. College, Hendry Hall, room K143, Ft. Myers, FL (Use Shoreline Blvd. entrance. Park in 1st lot on right (Lot 8). For Map directions see: http://www.edison.edu/aboutecc/lee_campus.htm).

8. Wednesday, June 27, 2001, Madeira Beach City Hall, 300 Municipal Drive, Madeira Beach, FL.

9. Thursday, June 28, 2001, Plantation Inn, 9301 West Fort Island Trail, Crystal River, FL.

The Council will also hear public testimony before taking final action on Amendment 18 at another meeting. A notification of the date, time, and location of that meeting will be published in the Federal Register. The Council will accept written comments received by June 28, 2001.

Special Accommodations

These meetings are physically accessible to people with disabilities. Requests for sign language interpretation or other auxiliary aids should be directed to Anne Alford at the Council (see ADDRESSES) by June 7, 2001.

Dated: June 7, 2001.
Richard W. Surdi,
Acting Director, Office of Sustainable Fisheries, National Marine Fisheries Service.

[FR Doc. 01-14893 Filed 6-8-01; 3:25 pm]

BILLING CODE 3510-22-S